FEDERAL RESERVE SYSTEM

Formations of, Acquisitions by, and Mergers of Bank Holding Companies; Correction

This notice corrects a notice (FR Doc. 2011-15233) published on pages 35893 and 35894 of the issue for Monday June 20, 2011.

Under the Federal Reserve Bank of New York heading, the entry for Banco do Brasil S.A., Brasilia, Brazil, is revised to read as follows:

A. Federal Reserve Bank of New York (Ivan Hurwitz, Vice President) 33 Liberty Street, New York, New York 10045-0001:

1. Banco do Brasil S.A., Brasilia, Brazil, and Caixa de Previdencia dos Funcionarios do Banco do Brasil, Rio de Janeiro, Brazil; to become bank holding companies by acquiring 51 percent of the voting shares of Eurobank, Boca Raton, Florida.

Comments on this application must be received by July 15, 2011.

Board of Governors of the Federal Reserve System, June 20, 2011.
Robert deV. Frierson,
Deputy Secretary of the Board.

[FR Doc. 2011-15699 Filed 6-22-11; 8:45 am]

BILLING CODE 6210-01-P